DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 6, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Quality Control Review Schedule (FNS 380) Control (Associated with Interim Final Rule E64).

OMB Control Number: 0584-0074.

Summary of Collection: Section 16 of the Food and Nutrition Act of 2008 provides the legislative basis for the operation of the Quality Control (QC) system. Part 275, Subpart C, of SNAP regulations implements the legislative mandates found in Section 16. Regulations at 7 CFR 275.1, 275.14(d) and 275.21(a) and (b)(1) provide the regulatory basis for the QC reporting requirements. Section 11(a) of the Food and Nutrition Act of 2008 provides the legislative basis for the recordkeeping requirements. SNAP regulations, at 7 CFR 272.1(f), specify that program records must be retained for three years from the month of origin. Regulations at 7 CFR 275.4 specifically address record retention requirements for form FNS-380.

State agencies are required to perform Quality Control (QC) reviews for the Supplemental Nutrition Assistance Program (SNAP). In order to determine the accuracy of SNAP benefits authorized by State agencies, a statistical sample of SNAP cases is selected for review from each State agency. Relevant information from the case record, investigative work and documentation about individual cases is recorded on the form FNS-380, Worksheet for SNAP Quality Control Reviews.

The purpose is for State agencies to analyze each household case record including planning and carrying out the field investigation; gathering, comparing, analyzing and evaluating the review of data and forwarding selected cases to the Food and Nutrition Service for Federal validation, for the entire caseload.

Need and Use of the Information: Form FNS-380, is a SNAP worksheet used to determine eligibility and benefits for households selected for review in the quality control sample of active cases and to ensure program integrity. FNS will produce a report of our findings.

Description of Respondents: 53 State, Local, or Tribal Government; 45,497 Individuals/Households.

Number of Respondents: 45,550.

Frequency of Responses: Reporting; Recordkeeping: Annually.

Total Burden Hours: 405,996 for reporting and recordkeeping.

Food and Nutrition Service

Title: Supplemental Nutrition Assistance Program Regulations—Quality Control (Associated with Interim Final Rule AE64).

OMB Control Number: 0584-0303.

Summary of Collection: Section 16 of the Food and Nutrition Act of 2008, provides the legislative basis for the operation of the Supplemental Nutrition Assistance Program (SNAP) Quality Control system. The Food and Nutrition Service (FNS), as administrator of the SNAP, requires each State agency to implement a quality control system to provide basis for determining each State agency's error rates through review of a sample of SNAP cases. Each State agency is responsible for the design and selection of the quality control samples and must submit a quality control sampling plan for approval to FNS. However, State agencies are required to maintain case records for three years to ensure compliance with provisions of the Food and Nutrition Act of 2008.

In addition, the date of an administrative closure could cause the case to be kept more than three years after the initial case review. This particularly impacts the arbitration component of this collection.

Need and Use of the Information: The quality control sampling plan is necessary for FNS to monitor State operations and is essential to the determination of a State agency's error rate and corresponding entitlement to increased Federal share of its administrative costs or liability for sanctions.

Description of Respondents: State, Local, or Tribal Government; Federal Government.

Number of Respondents: 53.

Frequency of Responses: Recordkeeping; Reporting: On occasion; Annually.

Total Burden Hours: 2,829.

Dated: June 1, 2022.
Ruth Brown,
Departmental Information Collection Clearance Officer.

[FR Doc. 2022-12067 Filed 6-3-22; 8:45 am]

BILLING CODE 3410-30-P